ENVIRONMENTAL PROTECTION AGENCY

[FRL-6873-7]

Agency Information Collection Activities: Submission for OMB Review; Comment Request, Detergent Gasoline

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Detergent Gasoline (OMB Control Number 2060-0275, expiration date: 9-30-00). The ICR describes the nature of the information collection and its expected burden and cost; where appropriate, it includes the actual data collection instrument.

DATES: Comments must be submitted on or before October 23, 2000.

ADDRESSES: Send comments, referencing EPA ICR No. 1655.04 and OMB Control No. 2060-0275, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR, contact Sandy Farmer at EPA by phone at (202) 260-2740, by E-Mail at Farmer.Sandy@epa.gov or download off the Internet at http://www.epa.gov and refer to EPA ICR No. 1655.04. For technical questions about the ICR contact James W. Caldwell at EPA, (202) 564-9303, fax: (202) 565-2085, caldwell.jim@epa.gov.

SUPPLEMENTARY INFORMATION: Title: Detergent Gasoline: Certification Requirements for Manufacturers of Detergent Additives; Transferors and Transferees of Detergent Additives; Blenders of Detergents into Gasoline or Post-refinery Component; Manufacturers, Transferors, and Transferees of Gasoline or Post-refinery Component (40 CFR part 80—subpart G), EPA ICR Number 1655.04, OMB Control Number 2060-0275, expiration date: 9-30-00. This is a request for an extension of a currently approved collection.

Abstract: Gasoline combustion results in the formation of engine deposits that contribute to increased emissions. Detergent additives deter deposit formation. The Clean Air Act requires gasoline to contain a detergent additive. The regulations at 40 CFR part 80—subpart G specify certification requirements for manufacturers of detergent additives, recordkeeping or reporting requirements for blenders of detergents into gasoline or post-refinery component (any gasoline blending stock or any oxygenate which is blended with gasoline subsequent to the gasoline refining process), and reporting or recordkeeping requirements for manufacturers, transferors, or transferees of detergents, gasoline, or post-refinery component (PRC). These requirements ensure that (1) a detergent is effective before it is certified by EPA, (2) a certified detergent, at the minimum concentration necessary to be effective (known as the lowest additive concentration (LAC), is blended into gasoline, and (3) only gasoline which contains a certified detergent at its LAC is delivered to the consumer. The EPA maintains a list of certified gasoline detergents, which is publicly available. As of March 2000 there were approximately 225 certified detergents and 16 detergent manufacturers.

An agency may not conduct or sponsor, and a person is not required to respond to, a collection of information unless it displays a currently valid OMB control number. The OMB control numbers for EPA's regulations are listed at 40 CFR part 9 and 48 CFR Chapter 15. The Federal Register document required under 5 CFR 1320.8(d), soliciting comments on this collection of information, was published on May 10, 2000 (65 FR 30109); no comments were received.

Burden Statement: The annual public reporting and recordkeeping burden for this collection of information is estimated to average 3.2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: (1) Manufacturers of gasoline, post-refinery component, or detergent additives, (2) blenders of detergent additives into gasoline or post-refinery component, and (3) transferors or transferees of detergent additives, gasoline, or post-refinery component.

Estimated Number of Respondents: 1,374.

Frequency of Response: On occasion and monthly.

Estimated Total Annual Hour Burden: 223,008 hours.

Estimated Total Annualized Capital, O&M Cost Burden: $500.00.

Send comments on the Agency's need for this information, the accuracy of the provided burden estimates, and any suggested methods for minimizing respondent burden, including the use of automated collection techniques, to the addresses listed above. Please refer to EPA ICR No. 1655.04 and OMB Control No. 2060-0275 in any correspondence.

Dated: September 12, 2000.
Oscar Morales,
Director, Collection Strategies Division.

[FR Doc. 00-24312 Filed 9-20-00; 8:45 am]

BILLING CODE 6560-50-P